DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 22, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: FNS Generic Clearance for the FNS Fast Track Clearance for the Collection of Routine Customer Feedback.

OMB Control Number: 0584-0611.

Summary of Collection: Under the Government Service Delivery Improvement Act (GSDIA), along with the OMB Circular A-11, Section 280 Implementation, agencies are obligated to continually improve the services they provide the public and to collect qualitative and quantitative data from the public to do so. The Food and Nutrition Service (FNS) seeks to obtain OMB approval for the extension of a generic clearance to collect qualitative feedback on our delivery of services. By qualitative feedback we mean information that provides useful insights on perceptions and opinions but are not statistical surveys that yield quantitative results that can be generalized to the population of study.

Need and Use of the Information: This feedback will continue to: (1) provide insights into customer or stakeholder perceptions, experiences and expectations, (2) provide an early warning of issues with service and, (3) focus attention on areas where communication, training or changes in operations might improve delivery of products or services. This collection allows for ongoing, collaborative, and actionable communications between the Agency and its customers and stakeholders. It also allows feedback to contribute directly to the improvement of program management.

The solicitation of feedback targets areas such as: timeliness, appropriateness, accuracy of information, courtesy, efficiency of service delivery, and resolution of issues with service delivery. Responses are assessed to plan and inform efforts to improve or maintain the quality of service offered to the public. If this information is not collected, vital feedback from customers and stakeholders on the Agency's services will not be available.

Description of Respondents: Individuals and Households, Businesses and Organizations, State, Local and/or Tribal Government.

Number of Respondents: 42,500.

Frequency of Responses: Reporting: Annually, On Occasion.

Total Burden Hours: 85,000.

Rachelle Ragland-Greene,
Departmental Information Collection Clearance Officer.

[FR Doc. 2025-20432 Filed 11-19-25; 8:45 am]

BILLING CODE 3410-30-P